GENERAL SERVICES ADMINISTRATION

[OMB Control No. 3090-0057]

Information Collection; Standard Form 150, Deposit Bond-Individual Invitation, Sale of Government Personal Property

AGENCY: Federal Supply Service, General Services Administration (GSA).

ACTION: Notice of request for comments regarding a renewal to an existing OMB clearance.

SUMMARY: Under the provisions of the Paperwork Reduction Act of 1995 (44 U.S.C. Chapter 35), the General Services Administration has submitted to the Office of Management and Budget (OMB) a request to review and approve a renewal of a currently approved information collection requirement regarding Standard Form 150, Deposit Bond-Individual Invitation, Sale of Government Personal Property. A request for public comments was published at 70 FR 16820, April 1, 2005. No comments were received.

Public comments are particularly invited on: Whether this collection of information is necessary and whether it will have practical utility; whether our estimate of the public burden of this collection of information is accurate, and based on valid assumptions and methodology; ways to enhance the quality, utility, and clarity of the information to be collected.

DATES: Submit comments on or before: September 1, 2005.

FOR FURTHER INFORMATION CONTACT: Ms. Iris Wright-Simpson, Property Disposal Specialist, Property Management Division, at (703) 605-2912 or via email at iris.wright-simpson@gsa.gov.

ADDRESSES: Submit comments regarding this burden estimate or any other aspect of this collection of information, including suggestions for reducing this burden to Ms. Jeanette Thornton, GSA Desk Officer, OMB, Room 10236, NEOB, Washington, DC 20503, and a copy to the Regulatory Secretariat (VIR), General Services Administration, Room 4035, 1800 F Street, NW., Washington, DC 20405. Please cite OMB Control No. 3090-0057, Standard Form 150, Deposit Bond-Individual Invitation, Sale of Government Personal Property, in all correspondence.

SUPPLEMENTARY INFORMATION:

A. Purpose

The Standard Form (SF) 150 is used by bidders participating in sales of Government personal property whenever the sales invitation permits an individual type of deposit bond in lieu of cash or other form of bid deposit.

B. Annual Reporting Burden

Respondents: 1000.

Responses Per Respondent: 1.

Total Responses:1000.

Hours Per Response: .25.

Total Burden Hours: 250.

Obtaining Copies of Proposals: Requesters may obtain a copy of the information collection documents from the General Services Administration, Regulatory Secretariat (VIR), 1800 F Street, NW., Room 4035, Washington, DC 20405, telephone (202) 208-7312. Please cite OMB Control No. 3090-0057, Standard Form 150, Deposit Bond-Individual Invitation, Sale of Government Personal Property, in all correspondence.

Dated: July 26, 2005.
Michael W. Carleton,
Chief Information Officer

[FR Doc. 05-15183 Filed 8-1-05; 8:45 am]

BILLING CODE 6820-89-S